DEPARTMENT OF COMMERCE

International Trade Administration

[A-201-837; A-570-954]

Certain Magnesia Carbon Bricks From Mexico and the People's Republic of China: Final Results of Expedited Sunset Review of the Antidumping Duty Orders

AGENCY: Enforcement and Compliance, International Trade Administration, Department of Commerce.

SUMMARY: On August 3, 2015, the Department of Commerce (the “Department”) initiated the first five-year (“sunset”) review of the antidumping duty orders on certain magnesia carbon bricks (“MCBs”) from Mexico and the People's Republic of China (“PRC”) pursuant to section 751(c) of the Tariff Act of 1930, as amended (the “Act”).¹ On the basis of a notice of intent to participate and an adequate substantive response, filed on behalf of the domestic interested parties, as well as a lack of response from respondent interested parties, the Department conducted an expedited sunset review of the antidumping duty orders, pursuant to section 751(c)(3)(B) of the Act and 19 CFR 351.218(e)(1)(ii)(C)(2). As a result of this sunset review, the Department finds that revocation of the Orders would be likely to lead to continuation or recurrence of dumping at the levels indicated in the “Final Results of Review” section of this notice.

¹ See Initiation of Five-Year (“Sunset”) Review, 80 FR 45945 (August 3, 2015) (“Initiation Notice”); see also Notice of Antidumping Duty Order: Certain Magnesia Carbon Bricks from Mexico and the People's Republic of China: Antidumping Orders, 75 FR 57257 (September 20, 2010) (“Orders”).

DATES: Effective Date: December 9, 2015.

FOR FURTHER INFORMATION CONTACT: Kenneth Hawkins, Enforcement and Compliance, Office V, International Trade Administration, U.S. Department of Commerce, 14th Street and Constitution Avenue NW., Washington, DC 20230; telephone: (202) 482-6491.

SUPPLEMENTARY INFORMATION:

Background

On August 3, 2015, the Department initiated the first sunset review of the antidumping duty orders on MCBs from Mexico and the PRC, pursuant to section 751(c) of the Act and 19 CFR 351.218(c)(1).² The Department received a notice of intent to participate from the Magnesia Carbon Bricks Fair Trade Committee (Petitioners) within the deadline specified in 19 CFR 351.218(d)(1)(i).³ Petitioners claimed interested party status under section 771(9)(C) of the Act, as manufacturers of a domestic like product in the United States.

² See Initiation Notice.

³ See Letter from the domestic interested parties, dated August 18, 2015.

We received a complete substantive response from Petitioners within the 30-day deadline specified in 19 CFR 351.218(d)(3)(i).⁴ We received no responses from respondent interested parties. As a result, the Department conducted an expedited sunset review of the Order, pursuant to section 751(c)(3)(B) of the Act and 19 CFR 351.218(e)(1)(ii)(C)(2).

⁴ See Substantive Responses of the domestic interested parties, dated September 2, 2015.

Scope of the Orders

Imports covered by the Orders consist of certain chemically bonded (resin or pitch), MCBs with a magnesia component of at least 70 percent magnesia (“MgO”) by weight, regardless of the source of raw materials for the MgO, with carbon levels ranging from trace amounts to 30 percent by weight, regardless of enhancements, (for example, MCBs can be enhanced with coating, grinding, tar impregnation or coking, high temperature heat treatments, anti-slip treatments or metal casing) and regardless of whether or not anti-oxidants are present (for example, antioxidants can be added to the mix from trace amounts to 15 percent by weight as various metals, metal alloys, and metal carbides). Certain MCBs that are the subject of this investigation are currently classifiable under subheadings 6902.10.1000, 6902.10.5000, 6815.91.0000, 6815.99.2000, and 6815.99.4000 of the Harmonized Tariff Schedule of the United States (“HTSUS”). While HTSUS subheadings are provided for convenience and customs purposes, the written description is dispositive.

Analysis of Comments Received

All issues raised in this review are addressed in the “Issues and Decision Memorandum for the Expedited Sunset Review of the Antidumping Duty Order on Certain Magnesia Carbon Bricks from Mexico and the People's Republic of China” (“Decision Memorandum”) from Christian Marsh, Deputy Assistant Secretary, Office V, Antidumping and Countervailing Duty Operations, to Paul Piquado, Assistant Secretary for Enforcement and Compliance, dated concurrently with and hereby adopted by this notice. The issues discussed in the Decision Memorandum include the likelihood of continuation or recurrence of dumping and the magnitude of the margins likely to prevail if the Orders were to be revoked. Parties may find a complete discussion of all issues raised in the review and the corresponding recommendations in this public memorandum which is on file electronically via Enforcement and Compliance's Antidumping and Countervailing Duty Centralized Electronic Services System (“ACCESS”). Access to ACCESS is available in the Central Records Unit Room B8024 of the main Commerce building. In addition, a complete version of the Decision Memorandum can be accessed directly on the Web at http://trade.gov/enforcement. The signed Decision Memorandum and the electronic version of the Decision Memorandum are identical in content.

Final Results of Review

Pursuant to sections 752(c)(1) and (3) of the Act, we determine that revocation of the antidumping duty order on MCBs from Mexico and the PRC would be likely to lead to continuation or recurrence of dumping at weighted-average margins up to 57.90 percent for Mexico and up to 236 percent for the PRC.

Notice Regarding Administrative Protective Order (“APO”)

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

This sunset review and notice are in accordance with sections 751(c), 752(c), and 777(i)(1) of the Act and 19 CFR 351.218.

Dated: December 1, 2015.
Christian Marsh,
Deputy Assistant Secretary for Antidumping and Countervailing Duty Operations.

[FR Doc. 2015-31084 Filed 12-8-15; 8:45 am]

BILLING CODE 3510-DS-P